DEPARTMENT OF COMMERCE

International Trade Administration

[C-475-815] [A-475-814]

Revocation of Antidumping and Countervailing Duty Orders: Certain Seamless Carbon and Alloy Steel Standard, Line and Pressure Pipe From Italy

AGENCY: Import Administration, International Trade Administration, Department of Commerce.

ACTION: Notice of revocation of antidumping and countervailing duty orders: certain seamless carbon and alloy steel standard, line and pressure pipe from Italy.

SUMMARY: Pursuant to section 751(c) of the Tariff Act of 1930, as amended (“the Act”), the United States International Trade Commission (“the Commission”) determined that revocation of the antidumping and countervailing duty orders on certain seamless carbon and alloy steel standard, line and pressure pipe (“seamless pipe”) from Italy is not likely to lead to continuation or recurrence of material injury to an industry in the United States within a reasonably foreseeable time (66 FR 34717 (June 29, 2001)). Therefore, pursuant to section 751(d)(2) of the Act and 19 CFR 351.222(i)(2)(i), the Department of Commerce (“the Department”) is revoking the antidumping and countervailing duty orders on certain seamless carbon and alloy steel standard, line and pressure pipe from Italy. Pursuant to section 751(c)(6)(A)(iv) of the Act and 19 CFR 351.222(i)(2)(i) the effective date of revocation of the antidumping duty order is August 03, 2000, and the effective date of revocation of the countervailing duty order is August 8, 2000.

DATES: Effective Date: August 3, 2000 and August 8, 2000.

FOR FURTHER INFORMATION CONTACT: Martha V. Douthit or James P. Maeder, Office of Policy for Import Administration, International Trade Administration, U.S. Department of Commerce, 14th Street and Constitution Ave., NW., Washington, DC 20230; telephone: (202) 482-5050 or (202) 482-3330, respectively.

SUPPLEMENTARY INFORMATION:

Background

On July 3, 2000, the Department initiated (65 FR 41053), and the Commission instituted (65 FR 41090), sunset reviews of the antidumping and countervailing duty orders on seamless pipe from Argentina, Brazil, Germany, and Italy pursuant to section 751(c) of the Act. As a result of these reviews, the Department found that revocation of the antidumping and the countervailing duty orders on seamless pipe from Italy would likely lead to continuation or recurrent of dumping, and notified the Commission of the magnitude of the margin likely to prevail were the antidumping and countervailing duty orders revoked. See Final Results of Expedited Sunset Reviews: Seamless Pipe From Argentina, Brazil, Germany, and Italy, 65 FR 66708 (November 7, 2000.)

On June 29, 2001, the Commission determined, pursuant to section 751(c) of the Act, that revocation of the antidumping and countervailing duty order on seamless pipe from Italy would not likely lead to continuation or recurrence of material injury to an industry in the United States within a reasonably foreseeable time. See Certain Seamless Carbon and Alloy Steel Standard, Line, and Pressure Pipe From Argentina, Brazil, Germany, and Italy, 66 FR 34717 (June 29, 2001), and USITC Pub. 3429 (June 2001), Investigation Nos. 701-TA-362 and 731-TA-707-710 (Reviews).

Scope of the Orders

The merchandise subject to these orders include seamless pipes produced to the American Society for Testing and Materials (“ASTM”) standards A-335, A-106, A-53, and American Petroleum Institute (“API”) standard API 5L specifications and meeting the physical parameters described below, regardless of application. The scope of these orders also includes all products used in standard, line, or pressure pipe applications and meeting the physical parameters below, regardless of specification. For purposes of these orders, seamless pipes are seamless carbon and alloy (other than stainless) steel pipes, of circular cross-section, not more than 114.3 mm (4.5 inches) in outside diameter, regardless of wall thickness, manufacturing process (hot-finished or cold-drawn), end finish (plain end, beveled end, upset end, threaded, or threaded and coupled), or surface finish. These pipes are commonly known as standard pipe, line pipe, or pressure pipe, depending upon the application. They may also be used in structural applications. Pipes produced in non-standard wall thicknesses are commonly referred to as tubes. The seamless pipes subject to these orders are currently classifiable under subheadings 7304.10.10.20, 7304.10.50.20, 7304.31.60.50, 7304.39.00.16, 7304.39.00.20, 7304.39.00.24, 7304.39.00.28, 7304.39.00.32, 7304.51.50.05, 7304.51.50.60, 7304.59.60.00, 7304.59.80.10, 7304.59.80.15, 7304.59.80.20, and 7304.59.80.25 of the Harmonized Tariff Schedule of the United States (“HTSUS”). The following information further defines the scope of these orders, which covers pipes meeting the physical parameters described above: Specifications, Characteristics and Uses: Seamless pressure pipes are intended for the conveyance of water, steam, petrochemicals, chemicals, oil products, natural gas, and other liquids and gasses in industrial piping systems. They may carry these substances at elevated pressures and temperatures and may be subject to the application of external heat. Seamless carbon steel pressure pipe meeting the ASTM standard A-106 may be used in temperatures of up to 1000 degrees Fahrenheit, at various American Society of Mechanical Engineers (“ASME”) code stress levels. Alloy pipes made to ASTM standard A-335 must be used if temperatures and stress levels exceed those allowed for A-106 and the ASME codes. Seamless pressure pipes sold in the United States are commonly produced to the ASTM A-106 standard.

Seamless standard pipes are most commonly produced to the ASTM A-53 specification and generally are not intended for high temperature service. They are intended for the low temperature and pressure conveyance of water, steam, natural gas, air and other liquids and gasses in plumbing and heating systems, air conditioning units, automatic sprinkler systems, and other related uses. Standard pipes (depending on type and code) may carry liquids at elevated temperatures but must not exceed relevant ASME code requirements. Seamless line pipes are intended for the conveyance of oil and natural gas or other fluids in pipe lines. Seamless line pipes are produced to the API 5L specification. Seamless pipes are commonly produced and certified to meet ASTM A-106, ASTM A-53 and API 5L specifications. Such triple certification of pipes is common because all pipes meeting the stringent ASTM A-106 specification necessarily meet the API 5L and ASTM A-53 specifications. Pipes meeting the API 5L specification necessarily meet the ASTM A-53 specification. However, pipes meeting the A-53 or API 5L specifications do not necessarily meet the A-106 specification. To avoid maintaining separate production runs and separate inventories, manufacturers triple-certify the pipes. Since distributors sell the vast majority of this product, they can thereby maintain a single inventory to service all customers. The primary application of ASTM A-106 pressure pipes and triple-certified pipes is in pressure piping systems by refineries, petrochemical plants and chemical plants. Other applications are in power generation plants (electrical-fossil fuel or nuclear), and in some oil field uses (on shore and off shore) such as for separator lines, gathering lines and metering runs. A minor application of this product is for use as oil and gas distribution lines for commercial applications. These applications constitute the majority of the market for the subject seamless pipes. However, A-106 pipes may be used in some boiler applications.

The scope of these orders include all seamless pipe meeting the physical parameters described above and produced to one of the specifications listed above, regardless of application, and whether or not also certified to a non-covered specification. Standard, line and pressure applications and the above-listed specifications are defining characteristics of the scope of these orders. Therefore, seamless pipes meeting the physical description above, but not produced to the ASTM A-335, ASTM A-106, ASTM A-53, or API 5L standards shall be covered if used in a standard, line or pressure application. For example, there are certain other ASTM specifications of pipe which, because of overlapping characteristics, could potentially be used in A-106 applications. These specifications generally include A-162, A-192, A-210, A-333, and A-524. When such pipes are used in a standard, line or pressure pipe application, such products are covered by the scope of these orders.

Specifically excluded from these orders are boiler tubing and mechanical tubing, if such products are not produced to ASTM A-335, ASTM A-106, ASTM A-53 or API 5L specifications and are not used in standard, line or pressure applications. In addition, finished and unfinished oil country tubular goods (“OCTG”) are excluded from the scope of these orders, if covered by the scope of another antidumping duty order from the same country. If not covered by such an OCTG order, finished and unfinished OCTG are included in this scope when used in standard, line or pressure applications. Finally, also excluded from these orders are redraw hollows for cold-drawing when used in the production of cold-drawn pipe or tube. Although the HTSUS subheadings are provided for convenience and customs purposes, our written description of the scope of this order is dispositive.

Determination

As a result of the determination by the Commission that revocation of the antidumping and the countervailing duty orders is not likely to lead to continuation or recurrence of material injury to an industry in the United States, the Department, pursuant to section 751(d)(2) of the Act is revoking the antidumping and countervailing duty orders on seamless pipe from Italy.

Pursuant to section 751(c)(6)(A)(iv) of the Act and 19 CFR 351.222(i)(2)(i), revocation is effective August 3, 2000, with respect to the antidumping duty order, and August 8, 2000, with respect to the countervailing duty order. The Department will instruct the Customs Service to discontinue the suspension of liquidation and collection of cash deposit rates on entries of the subject merchandise entered or withdrawn from warehouse on or after August 3, 2001, and August 8, 2000 (the effective dates). The Department will complete any pending administrative reviews of these orders and will conduct administrative reviews of subject merchandise entered prior to the effective date of revocation in response to appropriately filed requests for review.

Dated: July 6, 2001.
Faryar Shirzad,
Assistant Secretary for Import Administration.

[FR Doc. 01-17715 Filed 7-13-01; 8:45 am]

BILLING CODE 3510-DS-M